DEPARTMENT OF JUSTICE

Notice of Lodging Proposed Consent Decree

In accordance with Departmental Policy, 28 CFR 50.7, notice is hereby given that a proposed Consent Decree in United States v. A. Derek Hoyte, et al., Case No. C10-2044BHS, was lodged with the United States District Court for the Western District of Washington on February 28, 2014.

This proposed Consent Decree concerns a complaint filed by the United States against Defendants Derek A. Hoyte, Columbia Pacific Enterprises, Inc., and Columbia Crest Partners LLC, in part pursuant to Section 309 of the Clean Water Act, 33 U.S.C. 1319, to obtain injunctive relief from and impose civil penalties against the Defendants for violating the Clean Water Act by discharging pollutants without a permit into waters of the United States. The proposed Consent Decree resolves these allegations by requiring the Defendants to restore the impacted areas and to pay a civil penalty.

The Department of Justice will accept written comments relating to the Clean Water Act aspects of this proposed Consent Decree for thirty (30) days from the date of publication of this Notice. Please address comments to Brian C. Kipnis, Assistant United States Attorney, Office of the United States Attorney for the Western District of Washington, 5220 United States Courthouse, 700 Stewart Street, Seattle, Washington 98101 and refer to United States v. Derek A. Hoyte, et al., Case No. C10-2044BHS, U.S.A.O. #2010V00667.

The proposed Consent Decree may be examined at the Clerk's Office, United States District Court for the Western District of Washington in Seattle, located at 700 Stewart Street, Suite 2310, Seattle, Washington 98101, or in Tacoma, located at 1717 Pacific Avenue, Room 3100, Tacoma, Washington 98402. In addition, the proposed Consent Decree may be examined electronically at http://www.justice.gov/enrd/Consent_Decrees.html.

Cherie L. Rogers,
Assistant Section Chief, Environmental Defense Section, Environment and Natural Resources Division.

[FR Doc. 2014-05439 Filed 3-12-14; 8:45 am]

BILLING CODE P